SECURITIES AND EXCHANGE COMMISSION

[SEC File No. 270-797 OMB Control No. 3235-0748]

Submission for OMB Review; Comment Request: Extension; “Ombudsman Matter Management System Submission Form”

Upon Written Request Copies Available From: Securities and Exchange Commission, Office of the Investor Advocate, 100 F Street NE, Washington, DC 20549-3720

Notice is hereby given that, pursuant to the Paperwork Reduction Act of 1995 (44 U.S.C. 3501 et seq.), the Securities and Exchange Commission (“Commission”) has submitted to the Office of Management and Budget (“OMB”) a request to approve the collection of information discussed below.

Each year the Commission's Office of the Investor Advocate, Office of the Ombudsman (“Ombudsman”) receives over a thousand contacts from investors who have complaints or questions about the SEC or any of the self-regulatory organizations that it oversees. To make it easier for the public to contact the Ombudsman, the Ombudsman (“Ombudsman”) created an electronic form (Ombudsman Matter Management System Submission Form) that provides drop down options to choose from in order to categorize the investor's complaint or question, and may also provide the investor with automated information about their issue. The Ombudsman Matter Management System (OMMS) Submission Form asks investors to provide information concerning, among other things, their names, how they can be reached, the names of the individuals or entities involved, the nature of their complaint or tip, what documents they can provide, and what, if any, actions they have taken. Use of the Ombudsman Matter Management System Submission Form is voluntary. Absent the forms, the public still has several ways to contact the Ombudsman, including telephone, letters, and email. Investors can access the Ombudsman Matter Management System Submission Form through the Ombudsman web page at the web address https://www.sec.gov/ombudsman or directly at the web address https://omms.sec.gov.

The dual purpose of the Ombudsman Matter Management System Submission Form is to make it easier for the public to contact the agency with complaints, questions, tips, or other feedback and to streamline the workflow of Ombudsman staff that record, process, and respond to investor contacts. Investors who submit complaints, ask questions, or provide tips do so voluntarily. Although the Ombudsman Matter Management System Submission Form provides a structured format for incoming investor correspondence, the Commission does not require that investors use any particular form or format when contacting the Ombudsman. Investors who choose not to use the Ombudsman Matter Management System Submission Form will receive the same level of service as those who do.

The Ombudsman receives approximately 1,500 contacts each year through the Ombudsman Matter Management System Submission Form. The Ombudsman uses the information that investors supply on the Ombudsman Matter Management System Submission Form to review and process the contact (which may, in turn, involve responding to questions, processing complaints, or, as appropriate, referring matters to enforcement or examinations for potential investigations), to maintain a record of contacts, to track the volume of investor complaints, and to analyze trends.

The staff of the Commission estimates that the total reporting burden for using the Ombudsman Matter Management System Submission Form is 750 hours. The calculation of this estimate depends on the number of investors who use the forms each year and the estimated time it takes to complete the forms: 1,500 respondents × 30 minutes = 750 burden hours.

Members of the public should be aware that an agency may not conduct or sponsor, and a person is not required to respond to, a collection of information unless a currently valid OMB control number is displayed. Background documentation for this information collection may be viewed at the following link, http://www.reginfo.gov. General comments regarding the above information should be directed to the following persons within 30 days of publication of this notice by May 22, 2023 to (i) Desk Officer for the Securities and Exchange Commission, Office of Information and Regulatory Affairs, Office of Management and Budget, Room 10102, New Executive Office Building, Washington, DC 20503 or send an email to: Shagufta_Ahmed@omb.eop.gov; and (ii) David Bottom, Director/Chief Information Officer, Securities and Exchange Commission, c/o John R. Pezzullo, 100 F St. NE, Washington, DC 20549; or send an email to: PRA_Mailbox@sec.gov. Comments must be submitted to OMB within 30 days of this notice.

Dated: April 17, 2023.
Sherry R. Haywood,
Assistant Secretary.

[FR Doc. 2023-08419 Filed 4-20-23; 8:45 am]

BILLING CODE 8011-01-P